NATIONAL SCIENCE FOUNDATION

National Science Board; Sunshine Act Meetings; Notice

Correction

The National Science Board, pursuant to NSF regulations (45 CFR part 614), the National Science Foundation Act, as amended (42 U.S.C. 1862n-5), and the Government in the Sunshine Act (5 U.S.C. 552b), hereby gives notice in regard to the scheduling of a teleconference. This document corrects the NSF Sunshine Act Notice that published in the Federal Register July 2, 2012 (77 FR 39270). The teleconference for the transaction of National Science Board business and other matters specified will occur as follows:

CORRECTED DATE & TIME: Friday, July 6, 2012, 12:30 p.m.-1:00 p.m. EDT.

SUBJECT MATTER: Discussion of future planning for data policies.

STATUS: Closed.

This meeting will be held by teleconference at the National Science Board Office, National Science Foundation, 4201 Wilson Blvd. Arlington, VA 22230.

UPDATES & POINT OF CONTACT: Please refer to the National Science Board Web site www.nsf.gov/nsb for information and schedule updates, or contact: Ann Ferrante, National Science Board Office, 4201 Wilson Blvd., Arlington, VA 22230. Telephone: (703) 292-7000.

Ann Bushmiller,
Senior Counsel to the National Science Board.

[FR Doc. 2012-16567 Filed 7-3-12; 11:15 am]

BILLING CODE 7555-01-P